DEPARTMENT OF DEFENSE

Department of Navy

Privacy Act of 1974; System of Records

AGENCY: Department of the Navy, DoD.

ACTION: Notice to delete two systems of records.

SUMMARY: The Department of the Navy is deleting two systems of records in its existing inventory of record systems subject to the Privacy Act of 1974, (5 U.S.C. 552a), as amended.

DATES: This proposed action will be effective without further notice on June 20, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The Department of Navy proposes to delete two systems of records notice from its inventory of record systems subject to the Privacy Act of 1974 (5 U.S.C. 552a), as amended. The proposed deletion is not within the purview of subsection (r) of the Privacy Act of 1974 (5 U.S.C. 552a), as amended, which requires the submission of new or altered systems reports.

Dated: May 15, 2007.
C.R. Choate,
Alternate OSD Federal Register Liaison Officer, Department of Defense.

N01740-2

System name:

Federal Housing Administration Mortgage Insurance System (February 22, 1993, 58 FR 10721).

Reason: Program was disestablished.

N12300-1

System name:

Employee Assistance Program Case Record System (February 22, 1993, 58 FR 10819).

Reason:

Record system is no longer in use since OPM stopped their mandatory reporting requirement in the mid-1990s.

[FR Doc. E7-9675 Filed 5-18-07; 8:45 am]

BILLING CODE 5001-06-P